DEPARTMENT OF ENERGY

Federal Energy Regulatory Commission

[Docket No. RP04-390-000]

OkTex Pipeline Company; Notice of Proposed Changes in FERC Gas Tariff

July 9, 2004.

Take notice that on July 2, 2004, OkTex Pipeline Company (OkTex), tendered for filing as part of its FERC Gas Tariff, Volume No. 1, the following tariff sheets, to become effective August 1, 2004:

Second Revised Sheet No. 5B

Sixth Revised Sheet No. 17; and

Original Sheet No. 40L

OkTex states that the purpose of the filing is to increase the fuel retention percentage (FRP) on its midstream system and to establish a tariff mechanism to allow OkTex to adjust the FRP annually in accordance with Section 154.403 of the Commission's Rules and Regulations. 18 CFR 154.403. This filing also corrects one scrivener's error in OkTex's tariff.

OkTex further states that copies of the filing have been mailed to all affected customers and state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1581 Filed 7-14-04; 8:45 am]

BILLING CODE 6717-01-P